INTERNATIONAL TRADE COMMISSION

[Investigation No. NAFTA-312-1]

Certain Steel Wire Rod

Determination

On the basis of the information in the investigation, the Commission determines ¹ that a surge in imports of certain steel wire rod from Canada and Mexico, respectively, undermines the effectiveness of the import relief on wire rod provided for in Presidential Proclamation 7273 of February 16, 2000.

¹ Vice Chairman Okun and Commissioner Hillman dissenting.

Background

Following receipt of a request filed on July 24, 2001, on behalf of Co-Steel Raritan, GS Industries, Inc., Keystone Steel & Wire Company, and North Star Steel Texas Inc., the Commission instituted investigation No. NAFTA-312-1 under section 312(c)(2) of the North American Free Trade Agreement Implementation Act (19 U.S.C. 3372(c)(2)) to determine whether a surge in U.S. imports of certain steel wire rod from Canada and/or Mexico undermines the effectiveness of the import relief on wire rod provided for in Presidential Proclamation 7273 of February 16, 2000 (65 FR 8624, February 18, 2000).

Notice of the institution of the Commission's investigation and of the scheduling of a staff conference to be held in connection therewith was given by posting copies of the notice in the Office of the Secretary, U.S. International Trade Commission, Washington, DC, and by publishing the notice in the Federal Register of August 3, 2001 (66 F.R. 40722). The staff conference was held in Washington, DC, on August 8, 2001; all persons who requested the opportunity were permitted to appear in person or by counsel.

The Commission submitted its findings to the President on August 23, 2001, and will transmit its written views to the President on September 7, 2001.

By order of the Commission.
Issued: August 24, 2001.
Donna R. Koehnke,
Secretary.

[FR Doc. 01-21800 Filed 8-28-01; 8:45 am]

BILLING CODE 7020-02-P